DEPARTMENT OF ENERGY

Federal Energy Regulatory Commission

[Docket No. CP08-469-000]

Tennessee Gas Pipeline Company; Notice of Request Under Blanket Authorization

September 17, 2008.

Take notice that on September 5, 2008, Tennessee Gas Pipeline Company (Tennessee), 1001 Louisiana, Houston, Texas 77002, filed in Docket No. CP08-469-000, a prior notice request pursuant to sections 157.205 and 157.216 of the Federal Energy Regulatory Commission's regulations under the Natural Gas Act for authorization to abandon in place approximately 8.35 miles of an inactive 16-inch diameter offshore supply lateral, Line No. 507K-800, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Tennessee proposes to abandon in place approximately 8.35 miles of an inactive 16-inch supply lateral pipeline designated as Line No. 507K-800 extending from West Cameron Block 137 to an interconnection with Tennessee's Line No. 507K-700, located in West Cameron Block 141, offshore Louisiana. Tennessee states that the abandonment of this inactive supply lateral will have no operational impact on Tennessee nor will it adversely affect Tennessee's ability to meet any of its existing contractual obligations. Tennessee avers that no firm or interruptible transportation services will be affected by the abandonment.

Any questions regarding the application should be directed to Jay V. Allen, Senior Counsel, Tennessee Gas Pipeline Company, 1001 Louisiana, Houston, Texas 77002, at (713) 420-5589 or fax (713) 420-1601 or Juan Eligio, Analyst, Certificates & Regulatory Compliance, at (713) 420-3294 or fax (713) 420-1605.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E8-22263 Filed 9-23-08; 8:45 am]

BILLING CODE 6717-01-P